FEDERAL TRADE COMMISSION

16 CFR Part 305

[File No. R611004]

RIN 3084-AB15

Energy Labeling Rule; Correction

AGENCY: Federal Trade Commission.

ACTION: Final rule; correction and correcting amendment.

SUMMARY: The Federal Trade Commission (“Commission”) published a document in the Federal Register of October 12, 2022, concerning the Energy Labeling Rule. After publication, Commission staff learned that the document contained incorrect numbers in water heater tables, refrigerator tables, and regarding propane in certain appendices. Staff also learned that certain language in the Energy Labeling Rule regarding water heater size and type categories requires replacement to reflect accurate categories for water heaters under the Department of Energy conservation standards. The Commission is issuing this correction to reflect the corrected information.

DATES: Effective January 10, 2023.

FOR FURTHER INFORMATION CONTACT: Hampton Newsome (202-326-2889), Attorney, Division of Enforcement, Bureau of Consumer Protection, Federal Trade Commission, Room CC-9528, 600 Pennsylvania Avenue NW, Washington, DC 20580.

SUPPLEMENTARY INFORMATION: The final rule document submitted by Commission staff for publication contained errors related to certain range numbers; specifically, the ranges for medium capacity gas and electric water heaters in appendices D1, D2, and D4 (as well as conforming changes to Sample Label 5 in appendix L), the description for high-capacity models in appendices D1 through D5, and a specific range number for refrigerators covered by appendix A6. The final rule also contained a typographical error; specifically, a decimal point was omitted from the price-per-gallon figure for propane in the table for revised appendix K1.

In addition, the Commission is correcting 16 CFR part 305 to replace language in § 305.17(a)(9) to reflect the accurate size and type categories for water heaters under the Department of Energy conservation standards (10 CFR part 430).

Federal Register Corrections

In final rule FR Doc. 2022-22036 appearing at 87 FR 61465 in the Federal Register of Wednesday, October 12, 2022, make the following corrections.

1. On page 61470, in the table in appendix A6, the entry “14.5 to 16.4” is corrected to read as follows:

Appendix A6 to Part 305—Refrigerator Freezers With Automatic Defrost With Bottom-Mounted Freezer No Through The-Door Ice

Range Information
Manufacturer's rated total refrigerated volume in cubic feet | Range of estimated annual energy costs (dollars/year): Low | Range of estimated annual energy costs (dollars/year): High
* * * * *
14.5 to 16.4 | $53 | $84
* * * * *

2. On pages 61473-61474, instruction 8 and the accompanying regulatory text is corrected to read as follows:

8. Revise appendices D1 through D5 to read as follows:

Appendix D1 to Part 305—Water Heaters—Gas

Range Information
Capacity (first hour rating in gallons) | Range of estimated annual energy costs (dollars/year): Natural gas ($/year): Low | Range of estimated annual energy costs (dollars/year): Natural gas ($/year): High | Range of estimated annual energy costs (dollars/year): Propane ($/year): Low | Range of estimated annual energy costs (dollars/year): Propane ($/year): High
“Very Small”—less than 18 | (*) | (*) | (*) | (*)
“Low”—18 to 50.9 | 162 | 172 | (*) | (*)
“Medium”—51 to 74.9 | 179 | 235 | 361 | 476
“High”—75 and over | 227 | 336 | 460 | 679
(*) No data.

Appendix D2 to Part 305—Water Heaters—Electric

Range Information
Capacity: First hour rating | Range of estimated annual energy costs (dollars/year): Low | Range of estimated annual energy costs (dollars/year): High
“Very Small”—less than 18 | (*) | (*)
“Low”—18 to 50.9 | 90 | 357
“Medium”—51 to 74.9 | 121 | 494
“High”—75 and over | 173 | 747
(*) No data.

Appendix D3 to Part 305—Water Heaters—Oil

Range Information
Capacity: First hour rating | Range of estimated annual energy costs (dollars/year): Low | Range of estimated annual energy costs (dollars/year): High
“Very Small”—less than 18 | (*) | (*)
“Low”—18 to 50.9 | (*) | (*)
“Medium”—51 to 74.9 | (*) | (*)
“High”—75 and over | 625 | 686
(*) No data.

Appendix D4 to Part 305—Water Heaters—Instantaneous—Gas

Range Information
Capacity: Capacity (maximum flow rate); gallons per minute (gpm) | Range of estimated annual energy costs (dollars/year): Natural gas ($/year): Low | Range of estimated annual energy costs (dollars/year): Natural gas ($/year): High | Range of estimated annual energy costs (dollars/year): Propane ($/year): Low | Range of estimated annual energy costs (dollars/year): Propane ($/year): High
“Very Small”—less than 1.6 | 24 | 30 | 50 | 61
“Low”—1.7 to 2.7 | (*) | (*) | (*) | (*)
“Medium”—2.8 to 3.9 | 144 | 170 | 291 | 343
“High”—4.0 and over | 210 | 253 | 427 | 511
(*) No data.

Appendix D5 to Part 305—Water Heaters—Instantaneous—Electric

Range Information
Capacity: Capacity (maximum flow rate); gallons per minute (gpm) | Range of estimated annual energy costs (dollars/year): Low | Range of estimated annual energy costs (dollars/year): High
“Very Small”—less than 1.6 | 82 | 90
“Low”—1.7 to 2.7 | (*) | (*)
“Medium”—2.8 to 3.9 | (*) | (*)
“High”—4.0 and over | (*) | (*)
(*) No data.

3. On page 61477, in the table in appendix K1, the entry “Propane” is corrected to read as follows:

Appendix K1 to Part 305—Representative Average Unit Energy Costs for Refrigerators, Refrigerator-Freezers, Freezers, Clothes Washers, Dishwashers, and Water Heater Labels

* * * * *

Type of energy | In commonly used terms | As required by DOE test procedure
* * * * * * *
Propane | $2.23/gallon ⁸ | $0.00002446/Btu.
* * * * * * *

* * * * *

⁸ For the purposes of this table, one gallon of liquid propane has an energy equivalence of 91,333 Btu.

* * * * *

4. On page 61483, in appendix L, Sample Label 5 is corrected to read as follows:

Appendix L to Part 305—Sample Labels

* * * * *

BILLING CODE 7550-01-P

List of Subjects in 16 CFR Part 305

Advertising, Energy conservation, Household appliances, Labeling, Reporting and recordkeeping requirements.

Correcting Amendment

For the reasons discussed above, 16 CFR part 305 is corrected by making the following correcting amendment:

PART 305—ENERGY AND WATER USE LABELING FOR CONSUMER PRODUCTS UNDER THE ENERGY POLICY AND CONSERVATION ACT (“ENERGY LABELING RULE”)

1. The authority citation for part 305 continues to read as follows:

Authority: 42 U.S.C. 6294.

§ 305.17 [Amended]

2. In § 305.17:

a. In paragraph (a)(9)(i), remove the phrase “or greater than 75 gallons” and add in its place “or 75 gallons or more”.

b. In paragraph (a)(9)(ii), remove the phrases “[electric models or models fueled by natural gas]” and “2.8 to 4.0, or greater than 4.0” and add in their places “[electric models or models fueled by natural gas or models fueled by propane]” and “2.8 to 3.9, or 4.0 or more”, respectively.

Dated: December 15, 2022.
April J. Tabor,
Secretary.

[FR Doc. 2022-27680 Filed 1-6-23; 8:45 am]

BILLING CODE 7550-01-C